DEPARTMENT OF THE INTERIOR

Bureau of Land Management

[BLM_CO_FRN_MO4500170078]

Notice of Realty Action: Direct Sale of Public Lands in Montrose County, CO

AGENCY: Bureau of Land Management, Interior.

ACTION: Notice of realty action.

SUMMARY: The Bureau of Land Management (BLM) is proposing the non-competitive (direct) sale of a parcel of public lands in Colorado to resolve the inadvertent and unauthorized use of that land. The parcel, located in Montrose County, contains approximately 0.70 acres, and would be sold to Ballantyne Family Limited Partnership.

DATES: Interested parties must submit written comments no later than September 25, 2023.

ADDRESSES: Mail written comments to Suzanne Copping, Field Manager, BLM Uncompahgre Field Office, 2465 South Townsend Avenue, Montrose, CO 81401, or by email to scopping@blm.gov.

FOR FURTHER INFORMATION CONTACT: Jana Moe, Realty Specialist at the BLM Uncompahgre Field Office, telephone: (970) 240-5324, email: jpmoe@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The sale will be subject to the applicable provisions of sections 203 and 209 of the Federal Land Policy and Management Act of 1976 (FLPMA) and BLM land sale regulations. The appraised fair market value for the parcel is $2,500. The BLM will consider the direct sale, in accordance with sections 203 and 209 of FLPMA, of the following public lands:

New Mexico Principal Meridian, Colorado

T. 49 N., R. 8 W.,

sec 11, lot 1.

The area described contains 0.70 acres, according to the official plat of survey on file with the BLM.

There is no known mineral value in the parcel, therefore the mineral estate would also be conveyed in accordance with section 209 of FLPMA. The proposed sale is in conformance with the BLM Gunnison Gorge National Conservation Area (GGNCA) Resource Management Plan approved in November 2004, and plan maintenance action approved November 4, 2019. The parcel is located within the GGNCA planning area but is not located within the GGNCA boundary. The BLM prepared a parcel-specific environmental assessment (EA), document number DOI-BLM-CO-S054-2020-0006 EA, in connection with this realty action. It can be viewed online at https://eplanning.blm.gov/eplanning-ui/project/2000347/510.

The land is suitable for direct sale under FLPMA without competition, consistent with 43 CFR 2711.3-3(a)(5), because there is a need to resolve an inadvertent and unauthorized use of public lands, which are encumbered by privately owned improvements.

Pursuant to the requirements of 43 CFR 2711.1-2(d), publication of this notice in the Federal Register will segregate the land from all forms of appropriation under the public land laws, including the mining laws, except for the sale provisions of FLPMA. Until completion of the sale, the BLM will no longer accept land use applications affecting these public lands. The segregative effect will terminate upon issuance of a patent, publication in the Federal Register of a termination of the segregation, or on August 11, 2025, unless extended by the BLM Colorado State Director in accordance with 43 CFR 2711.1-2(d) prior to the termination date.

The patent, if issued, will include the following terms, covenants, conditions, and reservations:

1. A reservation to the United States for ditches and canals constructed by authority of the United States under the Act of August 30, 1890;

2. All valid existing rights issued prior to conveyance;

3. An appropriate indemnification clause protecting the United States from claims arising out of the patentee's use, occupancy, or operations on the patented lands; and

4. Additional terms and conditions that the authorized officer deems appropriate.

The EA, appraisal, maps, and environmental site assessment are available for review (see FOR FURTHER INFORMATION CONTACT). Interested parties may submit, in writing, any comments concerning the sale, including notifications of any encumbrances or other claims relating to the parcel, to the address above (see ADDRESSES).

The BLM Colorado State Director will review adverse comments regarding the proposed sale and may sustain, vacate, or modify this realty action, in-whole or in-part. In the absence of timely objections, this realty action will become the final determination of the Department of the Interior.

In addition to publication in the Federal Register, the BLM will also publish this notice in the Montrose Daily Press newspaper, once a week, for 3 consecutive weeks.

Before including your address, phone number, email address, or other personal identifying information in your comments, the BLM will make your entire comment—including your personal identifying information—publicly available at any time. While you can ask us, in your comment, to withhold your personal identifying information from public review, we cannot guarantee that we will be able to do so.

Authority: 43 CFR 2711.1-2.

Douglas Vilsack,
BLM Colorado State Director.

[FR Doc. 2023-17086 Filed 8-8-23; 8:45 am]

BILLING CODE 4331-16-P